DEPARTMENT OF JUSTICE

Notice of Lodging of Partial Consent Decree Under the Comprehensive Environmental Response, Compensation, and Liability Act

In accordance with Departmental policy, 28 CFR 50.7, notice is hereby given that a proposed Partial Consent Decree (“Decree”) in United States v. Centel Corporation, et al., Civil Action No. 02-4090 was lodged with the United States District Court for the District of South Dakota on May 9, 2002.

The Decree resolves the United States' claims against the City of Sioux Falls, South Dakota (the City) under Sections 106 and 107 of the Comprehensive Environmental Response, Compensation, and Liability Act (CERCLA), 42 U.S.C. 106 and 107, Section 311 of the Clear Water Act (CWA), 33 U.S.C. 1321, and Section 1002 of the Oil Pollution Act of 1990 (OPA), 33 U.S.C. 2702, for past and future response costs incurred at the Fawick Park site in Sioux Falls, South Dakota. The Decree requires the City to provide the United States with access to the Site and to waive any claims it might have against the United States relating to removal activities at the Site. The Decree does not, however, require the City to pay any response costs to the United States.

The Department of Justice will accept written comments relating to the Consent Decree for a period of thirty (30) days from the date of this publication . Comments should be addressed to the Assistant Attorney General, Environmental and Natural Resources Division, P.O. Box 7611, U.S. Department of Justice, Washington, DC 20044-7611, and should refer to United States v. Centel Corporation, et al., Civil Action No. 02-4090, D.J. Ref. 90-5-1-1-07686/1.

The Consent Decree may be examined at the Office of the United States Attorney for the District of South Dakota, 230 South Phillips, Suite 600, Sioux Falls, South Dakota 57104, and at U.S. EPA Region VIII, 999 Eighteenth Street, Suite 500, Denver, Colorado 80202-2466. A copy of the Consent Decree may also be obtained by mail from the Consent Decree, Library, P.O. Box 7611, U.S. Department of Justice, Washington, DC 20044-7611, or by fax from Tonia Fleetwood, fax number (202) 514-0097, phone confirmation number (202) 514-1547. In requesting a copy, please enclose a check in the amount of $3.00 (25 cents per page reproduction cost) payable to the United States Treasury.

Robert D. Brook,
Assistant Chief, Environmental Enforcement Section, Environment and Natural Resources Division.

[FR Doc. 02-12876 Filed 5-22-02; 8:45 am]

BILLING CODE 4410-15-M